DEPARTMENT OF STATE

[Public Notice 3979]

Bureau of Political-Military Affairs; Suspension of Munitions Export Licenses to Zimbabwe

AGENCY: Department of State.

ACTION: Notice.

SUMMARY: Notice is hereby given that all licenses and approvals to export or otherwise transfer defense articles and defense services to Zimbabwe pursuant to Section 38 of the Arms Export Control Act (AECA) are suspended until further notice. Further, effective immediately, it is the policy of the U.S. Government to deny all applications for licenses and other approvals to export or otherwise transfer defense articles and defense services to Zimbabwe.

EFFECTIVE DATE: April 17, 2002.

FOR FURTHER INFORMATION CONTACT: Mary F. Sweeney, Office of Defense Trade Controls, Bureau of Political-Military Affairs, Department of State (202) 663-2700.

SUPPLEMENTARY INFORMATION: The Government of Zimbabwe has subverted the democratic process through a badly flawed presidential election, a campaign of violence and intimidation against its political opposition, and a blatant disregard for the rule of law and serious human rights abuses. Consequently, it is the policy of the Department of State to deny all applications for licenses and other approvals to export or otherwise transfer defense articles and defense services to Zimbabwe, until further notice. In addition, U.S. manufacturers and exporters and any other affected parties (e.g., brokers) are hereby notified that the Department of State has suspended all licenses and approvals authorizing the export or other transfer of defense articles and defense services to Zimbabwe. The licenses and approvals that have been suspended include manufacturing licenses and technical assistance agreements involving Zimbabwe, including any agreement that has Zimbabwe as a sales territory. This action also precludes the use in connection with Zimbabwe of any exemptions from licensing or other approval requirements included in the International Traffic in Arms Regulations (ITAR) (22 CFR parts 120-130) until further notice.

In accordance with established procedures under the ITAR, exceptions to this policy will be considered on a case-by-case basis.

This action has been taken pursuant to sections 38 and 42 of the AECA (22 U.S.C. 2778, 2791) and section 126.7 of the ITAR in furtherance of the foreign policy of the United States.

Dated: April 11, 2002.
Lincoln P. Bloomfield, Jr.,
Assistant Secretary, Bureau of Political-Military Affairs, Department of State.

[FR Doc. 02-9305 Filed 4-16-02; 8:45 am]

BILLING CODE 4710-25-P